DEPARTMENT OF COMMERCE

National Oceanic and Atmospheric Administration

[I.D. 103102C]

Marine Mammals; File Nos. 358-1564, 782-1532, 1016-1651, 800-1664, 434-1669, 1010-1641, and 881-1668

AGENCY: National Marine Fisheries Service (NMFS), National Oceanic and Atmospheric Administration (NOAA), Commerce.

ACTION: Issuance of permits and permit amendments.

SUMMARY: Notice is hereby given that the following individuals/organizations have been issued a permit or permit amendment to take Steller sea lions (Eumetopias jubatus) for the purposes of scientific research: Dr. Glenn VanBlaricom, Washington Cooperative Fish and Wildlife Research Unit, School of Aquatic and Fishery Sciences, University of Washington, Seattle, WA 98195; Dr. Randall Davis, Department of Marine Biology, Texas A M University, Galveston, TX 77551; the Oregon Department of Fish and Wildlife (ODFW), Corvallis, Oregon 97330 (PI: Robin Brown); the Alaska SeaLife Center (ASLC), Seward, Alaska 99664 (PI: Don Calkins); the National Marine Mammal Laboratory (NMML), National Marine Fisheries Service, NOAA, Seattle, WA 98115-0070 (PI: Dr. Thomas Loughlin); the Alaska Department of Fish and Game (ADFG), Juneau, Alaska 99802-5526 (PI: Dr. Thomas Gelatt).

ADDRESSES: The permits, permit amendments, and related documents, are available for review upon written request, by downloading from the internet, or by appointment in the following office(s):

All documents: Permits, Conservation and Education Division, Office of Protected Resources, NMFS, 1315 East-West Highway, Room 13705, Silver Spring, MD 20910, (301)713-2289, or the Division's Web Page at http://www.nmfs.noaa.gov/prot_res/PR1/Permits/pr1permits_review.html.

For permit 782-1532 (NMML) and Files No. 1016-1651 (Univ. of Washington) and 434-1669 (ODFW): Northwest Region, NMFS, 7600 Sand Point Way NE, BIN C15700, Bldg. 1, Seattle, WA 98115-0700,(206)526-6150; and

For permits 782-1532 (NMML), 358-1564-02 (ADFG) and Files No. 1016-1651 (Univ. of Washington), 800-1664 (Davis), and 881-1668 (ASLC): Alaska Region, NMFS, PO Box 21668, Juneau, AK 99802-1668,(907)586-7221.

FOR FURTHER INFORMATION CONTACT: Dr. Tammy Adams or Ruth Johnson, (301)713-2289.

SUPPLEMENTARY INFORMATION: On June 27, 2002 , notice was published in the Federal Register (67 FR 43283) that requests for scientific research permits and permit amendments to take Steller sea lions had been submitted by the above-named individuals/organizations. The requested permits and permit amendments have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 358-1564-02, which expires on June 30, 2005, authorized the permit holder to take Steller sea lions of all ages and both sexes in Alaska and British Columbia by aerial/boat surveys, capturing, handling, flipper tagging, blood/biopsy sampling, hot-branding, collection of blood and tissue samples, attachment of scientific instruments, recaptures, and accidental mortality. The amended permit authorizes takes of additional sea lions by increased frequency of aerial surveys, and additional takes of individual sea lions by additional recaptures, increased blood and tissue sampling, tagging, administering Evans blue dye, and additional accidental mortality.

Permit No. 782-1532, which expires on December 31, 2004, authorizes the permit holder to take Steller sea lions of all ages and both sexes in Alaska, by aerial/boat surveys, capturing, handling, flipper tagging, blood/biopsy sampling, attachment of scientific instruments, and hot-branding. The amended permit increase the frequency of takes by aerial surveys; includes Southeast Alaska in monthly surveys; increases the number of animals to be incidentally harassed during scat collection; and allows additional procedures for animals already authorized for capture, including using gas anesthesia, branding of any animal captured, injecting Evan's blue dye and deuterated water, collecting additional blood and tissue samples, using bioelectric impedance analysis, and an increase in the number of accidental mortalities.

Permit No. 800-1664 authorizes takes of threatened and endangered juvenile and adult female Steller sea lions in Alaska by capture, anesthesia, hot-branding, tissue sampling (including blood, skin, and blubber), attachment of scientific instruments (video system/data logger and satellite transmitters), and accidental mortality.

Permit No. 1016-1641 authorizes takes of threatened and endangered Steller sea lions in the Aleutian Islands, Gulf of Alaska, and southeast Alaska by remote biopsy darting, incidental harassment, and accidental mortality, to collect blubber samples for analysis to assess prey selection. Some samples will be exported to Canada for analysis. Northern fur seals (Callorhinus ursinus) and harbor seals (Phoca vitulina richardsi) may be incidentally harassed during biopsy sampling.

Permit No. 434-1669 authorizes takes of threatened Steller sea lions in California, Washington, and Oregon by capture, hot-branding, flipper tagging, collection of blood and tissue samples from, attachment external scientific instruments to, harassment incidental to these activities and remote monitoring, and accidental mortality.

Permit No. 881-1668, issued to the Alaska SeaLife Center, authorizes takes of threatened and endangered Steller sea lions in Alaska by capture, hot-branding, flipper tagging, collection of blood and tissue samples from, attachment of external scientific instruments, accidental mortality, and harassment incidental to these activities and remote monitoring.

Permit No. 1010-1641 authorizes takes of Steller sea lions of all ages by harassment during aerial surveys and vessel-based behavioral observations in the western Gulf of Alaska, and scat collection at rookeries and haulouts along the Alaska Peninsula and Eastern Aleutian Islands.

Issuance of these permits and permit amendments, as required by the ESA, was based on a finding that the permits (1) were applied for in good faith, (2) will not operate to the disadvantage of the endangered species which is the subject of these permits, and (3) is consistent with the purposes and policies set forth in section 2 of the ESA.

Dated: November 12, 2002.
Eugene T. Nitta,
Acting Chief, Permits, Conservation and Education Division, Office of Protected Resources, National Marine Fisheries Service.

[FR Doc. 02-29357 Filed 11-18-02; 8:45 am]

BILLING CODE 3510-22-S